DEPARTMENT OF THE INTERIOR

National Park Service

[NPS-WASO-NRNHL-13451; PPWOCRADI0, PCU00RP14.R50000]

National Register of Historic Places; Notification of Pending Nominations and Related Actions

Nominations for the following properties being considered for listing or related actions in the National Register were received by the National Park Service before June 29, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by August 7, 2013. Before including your address, phone number, email address, or other personal identifying information in your comment, you should be aware that your entire comment—including your personal identifying information—may be made publicly available at any time. While you can ask us in your comment to withhold your personal identifying information from public review, we cannot guarantee that we will be able to do so.

Dated: July 5, 2013.
J. Paul Loether,
Chief, National Register of Historic Places/National Historic Landmarks Program.

CALIFORNIA

Los Angeles County

Hotel Rosslyn Annex, 112 W. 5th St., Los Angeles, 13000589

San Francisco County

U.S. Appraisers Stores and Immigration Station, 630 Sansome St., San Francisco, 13000590

Solano County

City Hall, 715 Marin St., Vallejo, 13000591

COLORADO

Logan County

Downtown Sterling Historic District, Roughly bounded by Division Ave., Poplar, Front, Ash & 4th Sts., Sterling, 13000592

INDIANA

Porter County

Good Fellow Club Youth Camp, 700 Howe Rd., Porter, 13000593

IOWA

Cedar County

Herbert Hoover National Historic Site (Boundary Increase), 110 Parkside Dr., West Branch, 13000594

MAINE

Androscoggin County

Poland Springs Historic District, 543 Maine St., Poland, 13000595

MINNESOTA

Goodhue County

Church of St. Rose of Lima, 8778 County 11 Blvd., Kenyon, 13000597

Red Wing Waterworks, 935 Levee Rd., Red Wing, 13000598

NEW YORK

Chemung County

Maple Avenue Historic District, 310 to 782 Maple (west side), 351 to 761 Maple (east side), Elmira, 13000599

Monroe County

Shantz Button Factory, 340 & 330 Rutgers St., 795 Monroe Ave., Rochester, 13000600

TEXAS

Travis County

German American Ladies College, 1604 E. 11th St., Austin, 13000601

Kappa Kappa Gamma House, 2001 University Ave., Austin, 13000602

WEST VIRGINIA

Fayette County

New River Gorge Bridge, U.S. 19 over New R., Fayetteville, 13000603

In the interest of preservation a request for a three day comment period has been made for the following resource:

MASSACHUSETTS

Hampden County

Hooker Apartments, 2772-2786 Main & 7 Greenwich Sts., Springfield, 13000596

A request for removal has been made for the following resource:

SOUTH DAKOTA

Edmunds County

Roscoe Community Hall, 202 Mitchell St., Roscoe, 84003284

[FR Doc. 2013-17582 Filed 7-22-13; 8:45 am]

BILLING CODE 4312-51-P